DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on October 13-14, 2011, at the Wyndham Portland Airport Hotel, 363 Maine Mall Road, Portland, ME. The sessions will begin at 8 a.m. each day and adjourn at 4 p.m. on October 13 and at 11:30 a.m. on October 14. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

In the morning of October 13, the Committee will hear from its Chairman and the Togus VA Medical Center Director. The Committee will receive briefings on Project Arch; MyHealthyVet; and Office of Rural Health. In the afternoon, the Committee will receive a briefing on the Mobile Unit Services and hear from the Eastern Resource Center. Public comments will be received at 3:15 p.m.

On October 14, the Committee will hear opening remarks from the Chairman. The Committee will break into a workgroup session to work on the Committee's annual report. Public comments will be received at 11 a.m.

Individuals who speak are invited to submit a 1-2 page summaries of their comments for inclusion in the official meeting record. Members of the public may also submit written statements for the Committee's review to Ms. Judy Bowie, Designated Federal Officer, Office of Rural Health (10P1R), Department of Veterans Affairs, 810 Vermont Avenue, NW., Washington, DC 20420, or at rural.health.inquiry@va.gov. Any member of the public seeking additional information should contact Ms. Bowie at (202) 461-1929.

Dated: September 26, 2011.
By direction of the Secretary.
Vivian Drake,
Acting Committee Management Officer.

[FR Doc. 2011-25187 Filed 9-29-11; 8:45 am]

BILLING CODE P